DEPARTMENT OF ENERGY

Federal Energy Regulatory Commission

[Docket No. CP15-27-000]

Trailblazer Pipeline Company LLC; Notice of Request Under Blanket Authorization

Take notice that on December 9, 2014, Trailblazer Pipeline Company LLC (Trailblazer), 4200 West 115th Street, Suite 350, Leawood, Kansas 66211-2609, filed a prior notice application pursuant to section 7(c) of the Natural Gas Act (NGA) and sections 157.205 and 157.208 (b) of the Federal Energy Regulatory Commission's (Commission) regulations under the NGA, and Trailblazer's blanket certificate issued in Docket No. CP82-497-000. Trailblazer seeks authorization to construct and operate certain natural gas transportation facilities in Weld County, Colorado and Kimball County, Nebraska (Niobrara Lateral). Specifically, Niobrara Lateral project consists of: (1) Approximately 16 miles of ten-inch diameter high-pressure lateral pipeline that will extend from an existing third-party natural gas processing facility in Weld County, Colorado to Trailblazer's mainline, and then continue to a new interconnect between the proposed lateral pipeline and the mainline of Rockies Express Pipeline LLC; (2) measurement facilities; and (3) certain ancillary facilities, all as more fully set forth in the application, which is open to the public for inspection. The filing may also be viewed on the web at http://www.ferc.gov using the “eLibrary” link. Enter the docket number excluding the last three digits in the docket number field to access the document. For assistance, contact FERC at FERCOnlineSupport@ferc.gov or call toll-free, (866) 208-3676 or TTY, (202) 502-8659.

Any questions regarding this application should be directed Skip George, Manager Regulatory, Tallgrass Interstate Gas Transmission, LLC, 370 Van Gordon St., Lakewood, Colorado 80228-1519, or by phone (303) 763-3251.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Pursuant to section 157.9 of the Commission's rules, 18 CFR 157.9, within 90 days of this Notice the Commission staff will either: Complete its environmental assessment (EA) and place it into the Commission's public record (eLibrary) for this proceeding, or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenter will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 5 copies of the protest or intervention to the Federal Energy Regulatory Commission, 888 First Street NE., Washington, DC 20426.

Dated: December 17, 2014.
Kimberly D. Bose,
Secretary.

[FR Doc. 2014-30054 Filed 12-23-14; 8:45 am]

BILLING CODE 6717-01-P